DEPARTMENT OF INTERIOR

Geological Survey

National Earthquake Prediction Evaluation Council

AGENCY: U.S. Geological Survey, Interior.

ACTION: Notice of meeting.

SUMMARY: Pursuant to Public Law 96-472, the National Earthquake Prediction Evaluation Council (NEPEC) will hold a 2-day meeting on November 4 and 5, 2009. The first day will be a joint meeting with the California Earthquake Prediction Evaluation Council (CEPEC). The meeting will be held at the U.S. Geological Survey Offices on the campus of the California Institue of Technology, 525 South Wilson Avenue, Pasadena, California 91106. The Council is comprised of members from academia and the Federal Government. The Council shall advise the Director of the U.S. Geological Survey (USGS) on proposed earthquake predictions, on the completeness and scientific validity of the available data related to earthquake predictions, and on related matters as assigned by the Director. Additional information about the Council may be found at: http://earthquake.usgs.gov/aboutus/nepec/.

At the joint meeting on November 4, the Councils will review methods for rapidly estimating the probability of a large earthquake following a possible foreshock or during a swarm of seismicity, review and discuss procedures by which Council findings are to be transmitted to the USGS and to the California Emergency Management Agency (CalEMA), and the format and content of earthquake advisory statements that may be composed and delivered at times of heightened concern. Findings of an International Commission convened by the Italian government to provide advice on “operational earthquake forecasting” following the damaging L'Aquila earthquake of April 2009 will be presented. The Councils will also discuss review procedures for the project intended to deliver an updated Uniform California Earthquake Rupture Forecast (UCERF) in summer 2012.

On November 5, the NEPEC will discuss outcomes of the previous day's meeting, plan topics to be explored by the Council in future meetings, and receive brief updates on previous discussion topics.

Workshops and meetings of the National Earthquake Prediction Evaluation Council are open to the public. A draft workshop agenda is available on request (contact information below). In order to ensure sufficient seating and hand-outs, it is requested that visitors pre-register by October 30. Members of the public wishing to make a statement to the Committee should provide notice of that intention by October 30 so that time may be allotted in the agenda.

DATES: November 4, 2009, commencing at 10:30 a.m. and adjourning at 5:30 p.m., and November 5, 2009, commencing at 8:30 a.m. and adjourning at Noon.

Contact: Dr. Michael Blanpied, Executive Secretary, National Earthquake Prediction Evaluation Council, U.S. Geological Survey, MS 905, 12201 Sunrise Valley Drive, Reston, Virginia 20192. (703) 648-6696, E-mail: mblanpied@usgs.gov.

Cost Center Billing Code: 10-7908-99500.

Dated: October 21, 2009.
Peter Lyttle,
Acting Associate Director for Geology.

[FR Doc. E9-25914 Filed 10-27-09; 8:45 am]

BILLING CODE 4311-AM-P